DEPARTMENT OF LABOR

Occupational Safety and Health Administration

[Docket No. ICR-1218-0230(2002)]

Vehicle-Mounted Elevating and Rotating Work Platforms (Aerial Lifts) Standard; Extension of the Office of Management and Budget's Approval of Information-Collection (Paperwork) Requirements

AGENCY: Occupational Safety and Health Administration (OSHA), Labor.

ACTION: Request for comment.

SUMMARY: OSHA requests comment concerning its proposed extension of the information-collection requirements specified for aerial lifts by its Vehicle-Mounted Elevating and Rotating Work Platforms Standard (29 CFR 1910.67). The paperwork provision of the Vehicle-Mounted Elevating and Rotating Work Platforms Standard specifies requirements for maintaining and disclosing the manufacturers' certification records for modified aerial lifts. The purpose of the requirement is to reduce employees' risk of death or serious injury by ensuring that aerial lifts are inspected and/or tested after modification to ensure they are in safe operating condition.

DATES: Submit written comments on or before August 5, 2002.

ADDRESSES: Submit written comments to the Docket Office, Docket No. ICR-1218-0230(2002), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collection specified by the Aerial Lifts Standard is available for inspection and copying in the Docket Office, or by requesting a copy from Theda Kenney at (202) 693-2222, or Todd Owen at (202) 693-2444. For electronic copies of the ICR, contact OSHA on the Internet at http;//www.osha.gov, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden in correct.

The Standard specifies one paperwork requirement. The following section describes who uses the information collected under the requirement, as well as how they use it. The purpose of the requirement is to reduce employees' risk of death or serious injury by ensuring that aerial lifts are in safe operating condition.

Manufacturer's Certification of Modificaitons (paragraph (b)(2)). The standard requires that when aerial lifts are “field modified” for uses other than those intended by the manufacturer, the manufacturer or other equivalent entity, such as a nationally recognized testing laboratory, must certify in writing that the modification is in conformity with all applicable provisions of ANSI A92.2-1969 and the OSHA standard and that the modified aerial lift is at least as safe as the equipment was before modification. Employers are to maintain the certification record and make it available to OSHA compliance officers. This record provides assurance to employers, employees, and compliance officers that the modified aerial life was inspected and/or tested after the modification and that the aerial lift is safe to use, thereby preventing failure while employees are being elevated. The certification record also provides the most efficient means for the compliance officers to determine that an employer is complying with the standard.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirement specified by the Aerial Lifts Standard (29 CFR 1910.67). The Agency will summarize the comments submitted in response to this notice, and will include this summary in its request to OMB to extend the approval of the information-collection requirement.

Type of Review: Extension of a currently-approved information-collection requirement.

Title: Aerial Lifts Standard (29 CFR 1910.67).

OMB Number: 1218-0230.

Affected Public: Business or other for-profit; not-for-profit institutions; Federal government; State, local, or tribal governments.

Number off Respondents: 900.

Frequency of Recordkeeping: On occasion.

Average Time per Response: 3 minutes (.05 hour).

Total Annual Hours Requested: 45.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC, on June 3, 2002.
John L. Henshaw,
Assistant Secretary of Labor.

[FR Doc. 02-14215 Filed 6-5-02; 8:45 am]

BILLING CODE 4510-26-M